COMMISSION ON CIVIL RIGHTS

Sunshine Act Meeting Notice

AGENCY: United States Commission on Civil Rights.

ACTION: Notice of Commission briefing and business meeting.

DATES: Friday, September 8, 2017, at 10:00 a.m. EST.

ADDRESSES: National Place Building, 1331 Pennsylvania Ave. NW., 11th Floor, Suite 1150, Washington, DC 20245 (Entrance on F Street NW.).

FOR FURTHER INFORMATION CONTACT: Brian Walch, phone: (202) 376-8371; TTY: (202) 376-8116; email: publicaffairs@usccr.gov.

SUPPLEMENTARY INFORMATION: This business meeting is open to the public. There will also be a call-in line for individuals who desire to listen to the presentations: 800-310-7032; Conference ID 799-7226.

Persons with disabilities who need accommodation should contact Pamela Dunston at (202) 376-8105 or at signlanguage@usccr.gov at least three business days before the scheduled date of the meeting.

Meeting Agenda

I. Approval of Agenda

II. Business Meeting

A. Discussion and Vote on Report: Working for Inclusion: Time for Congress to Enact Federal Legislation to Redress Workplace Discrimination Against Lesbian, Gay, Bisexual, and Transgender Americans

B. Discussion and Vote on Report: Public Education Funding Inequality in an Era of Increasing Concentration of Poverty and Resegregation

C. State Advisory Committees

• Vote on appointments to the New Jersey State Advisory Committee

• Vote on appointments to the North Dakota State Advisory Committee

• Vote on appointments to the Rhode Island State Advisory Committee

D. Management and Operations

• Staff Director's Report

E. [To begin at 11:00 a.m. EST] Presentations on President Eisenhower's Civil Rights Legacy and the Creation of the U.S. Commission on Civil Rights by:

a. Dawn Hammatt, Director of the Eisenhower Presidential Library

b. David A Nichols, Author of “A Matter of Justice, Eisenhower and the Beginning of the Civil Rights Movement”

III. Adjourn Meeting

Dated: August 29, 2017.
Brian Walch,
Director, Communications and Public Engagement.

[FR Doc. 2017-18629 Filed 8-29-17; 4:15 pm]

BILLING CODE 6335-01-P